DEPARTMENT OF COMMERCE

National Oceanic and Atmospheric Administration

50 CFR Part 679

[Docket No. 250312-0037; RTID 0648-XF494]

Fisheries of the Exclusive Economic Zone Off Alaska; Inseason Adjustment to the 2026 Gulf of Alaska Pacific Cod Total Allowable Catch

AGENCY: National Marine Fisheries Service (NMFS), National Oceanic and Atmospheric Administration (NOAA), Commerce.

ACTION: Temporary rule; inseason adjustment; request for comments.

SUMMARY: NMFS is adjusting the 2026 total allowable catch (TAC) amounts for the Gulf of Alaska (GOA) Pacific cod fisheries. This action is necessary because NMFS has determined that TACs are incorrectly specified, as they are not informed by the most recent Pacific cod stock assessment, and that adjustments to TACs are necessary to prevent harvest of incorrectly specified TACs. This action will ensure the GOA Pacific cod TACs are based on the best scientific information available concerning the stock status for Pacific cod in the GOA. This action is consistent with the goals and objectives of the Fishery Management Plan for Groundfish of the GOA (FMP).

DATES: Effective February 10, 2026, through 1200 hours, A.l.t., March 17, 2026, unless otherwise modified or superseded through publication of the final 2026 and 2027 harvest specifications for GOA groundfish in the Federal Register.

Comments must be received no later than February 25, 2026.

ADDRESSES: You may submit comments on this document, identified by docket number NOAA-NMFS-2024-0124 by any of the following methods:

• Electronic Submission: Submit all electronic public comments via the Federal e-Rulemaking Portal. Go to https://www.regulations.gov and enter NOAA-NMFS-2024-0124 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Abby Jahn, 907-586-7228.

SUPPLEMENTARY INFORMATION: NMFS manages the groundfish fishery in the GOA exclusive economic zone according to the FMP prepared and recommended by the North Pacific Fishery Management Council (Council) under authority of the Magnuson-Stevens Fishery Conservation and Management Act (Magnuson-Stevens Act). Regulations governing fishing by U.S. vessels in accordance with the FMP appear at subpart H of 50 CFR part 600 and 50 CFR part 679.

The final 2025 and 2026 harvest specifications for groundfish in the GOA set the 2026 Pacific cod TAC at 22,235 metric tons (mt) in the GOA (90 FR 12468, March 18, 2025). In December 2025, the Council considered and recommended updated 2026 specifications for Pacific cod as part of the final 2026 and 2027 harvest specifications. As recommended by the Council in December 2025, the overfishing limit (OFL) was set at 36,459 mt for the GOA-wide stock and the apportionment of the allowable biological catch (ABC) was set at 8,182 mt, 19,263 mt, and 2,748 mt for the Western Gulf Regulatory Area (WGOA), Central Gulf Regulatory Area (CGOA), and the Eastern Gulf Regulatory Area (EGOA), respectively. In December 2025, the Council also recommended a 2026 Pacific cod TAC of 21,826 mt for the GOA, which is less than the 22,235 mt established by the final 2025 and 2026 harvest specifications for groundfish in the GOA. The decrease in TAC was due to the Alaska Board of Fisheries (BOF)'s increase in the State of Alaska (State) guideline harvest level (GHL) from 30 to 35 percent for the WGOA in October 2025.

NMFS adjusted the 2026 Pacific cod TAC to 21,826 mt (90 FR 60022, December 23, 2025) consistent with the Council's recommendation. Because the GHL had increased for the WGOA, the WGOA TAC and GOA-wide TAC were adjusted to account for that increase to ensure that the sum of all Pacific cod removals from State and Federal waters in the GOA do not exceed the Pacific cod ABC.

Stock assessments were not completed in 2025 due to the lapse in Federal appropriations and resulting government shutdown from October 1, 2025, through November 12, 2025. The December 2025 Scientific and Statistical Committee's (SSC's) recommendations for Pacific cod in the GOA were informed by the Groundfish Plan Team's recommended OFL and ABC from their November 2024 meeting as well as a review of the most recent Stock Assessment and Fishery Evaluation report dated November 2024.

In December 2025, the Council requested the Alaska Fisheries Science Center update the stock assessment for Pacific cod in the GOA and provide the assessment to the Groundfish Plan Team for review. In January 2026, the Groundfish Plan Team reviewed the assessment and recommended OFL and ABC based on the updated Pacific cod stock assessment. At the February 2026 Council meeting, the SSC reviewed the updated stock assessment and made their own recommendations for OFL and ABC. The Council then recommended a 2026 Pacific cod TAC based on the SSC's OFL and ABC recommendations. As recommended by the SSC and Council in February 2026, the OFL is 49,782 mt and the ABC is 41,520 mt for the GOA-wide stock. The apportionment of the ABC is 10,297 mt, 28,732 mt, and 2,491 mt for the WGOA, CGOA, and EGOA, respectively. The TACs are adjusted from the ABC to account for the State's GHL for each subarea to ensure that the sum of all Pacific cod removals from State and Federal waters in the GOA do not exceed the Pacific cod ABC. These adjustments account for the GHL increase from 30 to 35 percent for the WGOA established by the BOF in October 2025 and an increase from 25 to 27 percent for the EGOA established by the State's recommendation and Council's motion in February 2026. There were no GHL changes for the CGOA, which remains at 25 percent. As a result, total TAC is set at 30,053 mt, and TACs are 6,693 mt, 21,549 mt, and 1,811 mt for the WGOA, CGOA, and EGOA, respectively.

Steller sea lions occur in the same location as Pacific cod fisheries and are listed as endangered under the Endangered Species Act. Pacific cod are one of the predominant prey species for Steller sea lions in the GOA. Regulations implementing Steller sea lion protection measures include regulations at § 679.20(a)(12)(i) that specify, for each sector, the seasonal apportionment of Pacific cod TAC in the WGOA and CGOA.

In accordance with § 679.25(a)(1)(iii), (a)(2)(i)(B), and (a)(2)(iv), the Regional Administrator, Alaska Region, NMFS (Regional Administrator), has determined that, based on the best scientific information available for this fishery, the 2026 Pacific cod TACs and subsequent sector allocations and seasonal apportionments are incorrectly specified, as they are not using the most recent data available, which is the updated Pacific cod stock assessment and OFL and ABC reviewed by the Plan Team in January 2026 and the SSC and Council in February 2026. NMFS also has determined it is necessary to adjust the Pacific cod TACs and sector allocations and seasonal apportionments to prevent harvest of the Pacific cod TACs that are incorrectly specified based on the 2024 stock assessment.

Consequently, the Regional Administrator is adjusting the 2026 GOA Pacific cod TAC to 30,053 mt. This determination is based on the most recent GOA Pacific cod stock assessment and SSC recommendations for OFL and ABC, which is the best available scientific information on biological stock status. The adjustment to TAC is reasonably related to the change in biological stock status as reflected in the most recent Pacific cod stock assessment and OFL and ABC. This determination is also based on TAC recommendations by the Council at the February 2026 meeting, and in consideration of the increase in the State GHL for the State waters fishery in the WGOA. The adjustments are necessary to ensure that the Pacific cod TACs are seasonally apportioned among sectors consistent with Steller sea lion protection measures set forth in regulation (§ 679.20(a)(12)(i)(A) and (B)).

Pursuant to § 679.25(a)(1)(iii), the Regional Administrator is adjusting the 2026 GOA Pacific cod TAC to 30,053 mt. Therefore, table 2 and 6 of the final 2025 and 2026 harvest specifications for groundfish in the GOA (90 FR 12468, March 18, 2025) and inseason adjustment (90 FR 60022, December 23, 2025) is revised consistent with this adjustment.

Pursuant to §§ 679.25(a)(1)(iii), 679.20(a)(6)(ii), and (a)(12)(i), table 6 of the final 2025 and 2026 harvest specifications for groundfish in the GOA (90 FR 12468, March 18, 2025) and inseason adjustment (90 FR 60022, December 23, 2025) is revised consistent with this adjustment. Note that regulations at § 679.20(a)(6)(ii) and (a)(12)(i) require NMFS to allocate TACs to gear and operational types using the sector percentages specified in regulation.

Table 6—Final 2026 Seasonal Apportionments and Allocation of Pacific Cod TAC Amounts in the GOA; Allocations in the WGOA and CGOA Sectors, and the EGOA Inshore and Offshore Processing Components
[Values are rounded to the nearest mt]
Sector | Annual allocation (mt) | A Season: Sector percentage of annual non-jig TAC (%) | A Season: Seasonal allowances (mt) | B Season: Sector percentage of annual non-jig TAC (%) | B Season: Seasonal allowances (mt)
WGOA
Jig (2.5% of TAC) | 167 | n/a | 100 | n/a | 67
Hook-and-line CV | 91 | 0.7 | 46 | 0.7 | 46
Hook-and-line CP | 1,292 | 10.9 | 711 | 8.9 | 581
Trawl CV | 2,506 | 31.54 | 2,058 | 6.86 | 448
Trawl CP | 157 | 0.9 | 59 | 1.5 | 98
All Pot CV and Pot CP | 2,480 | 19.8 | 1,292 | 18.2 | 1,188
Total | 6,693 | 63.84 | 4,266 | 36.16 | 2,427
CGOA
Jig (4% of TAC) | 862 | n/a | 517 | n/a | 345
Hook-and-line < 50 CV | 3,021 | 9.31552 | 1,927 | 5.28678 | 1,094
Hook-and-line ≥ 50 CV | 1,387 | 5.60935 | 1,160 | 1.09726 | 227
Hook-and-line CP | 1,056 | 4.10684 | 850 | 0.99751 | 206
Trawl CV ¹ | 7,782 | 25.29364 | 5,233 | 16.29047 | 2,549
Trawl RP ¹ | 821 | n/a | n/a | n/a | 821
Trawl CP | 868 | 2.00334 | 414 | 2.19451 | 454
All Pot CV and Pot CP | 5,752 | 17.82972 | 3,688 | 9.97506 | 2,064
Total | 21,549 | 64.1584 | 13,790 | 35.84 | 7,759
EGOA
|  | Inshore (90% of Annual TAC) |  | Offshore (10% of Annual TAC)
Total | 1,811 | 1,630 |  | 181
¹ Trawl catcher vessels (CVs) participating in Rockfish Program cooperatives receive 3.81 percent, or 821 mt, of the annual CGOA TAC (see table 28c to 50 CFR part 679), which is deducted from the Trawl CV B season allowance. This inseason adjustment also updates the apportionment found in table 13 of the final 2025 and 2026 harvest specifications for groundfish in the GOA (i.e., Final 2026 Apportionments of Rockfish Secondary Species in the CGOA to CV and Catcher/Processor (CP) Cooperatives) (90 FR 12468, March 18, 2025) to reflect that trawl CVs participating in Rockfish Program cooperatives receive 3.81 percent of the annual CGOA TAC based on regulations at table 28c to 50 CFR part 679 (applying this percent to the revised CGOA TAC results in 821 mt).

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data and information in a timely fashion and would not allow all available A season Pacific cod TAC to be harvested based on the most recent information available. NMFS was unable to publish a notice providing time for public comment because the most recent, relevant data and information only became available as of February 5, 2026, which is the date the Council took action to recommend 2026 Pacific cod specifications following the SSC's review February 2 and the Plan Team's review January 21. This action must be effective as soon as possible, to ensure harvests of Pacific cod that are within TACs set using the best available scientific information and that are consistent with seasonal apportionments for Pacific cod that are based on regulations implementing Steller sea lion protection measures.

Without this inseason adjustment, NMFS could not allow the fishery for Pacific cod in the GOA to be harvested in an expedient manner. Under § 679.25(c)(2), interested persons are invited to submit written comments on this action to the above ADDRESSES section until February 25, 2026.

There is also good cause under 5 U.S.C. 553(d)(3) to make this action effective immediately upon filing with the Office of the Federal Register. This finding is based upon the reasons provided above for waiver of prior notice and opportunity for public comment.

Authority: 16 U.S.C. 1801 et seq.

Dated: February 6, 2026.
David R. Blankinship,
Acting Director, Office of Sustainable Fisheries, National Marine Fisheries Service.

[FR Doc. 2026-02656 Filed 2-9-26; 8:45 am]

BILLING CODE 3510-22-P